SECURITIES AND EXCHANGE COMMISSION

[Release No. 34-49036; File No. SR-SCCP-2003-06]

Self-Regulatory Organizations; Stock Clearing Corporation of Philadelphia; Notice of Filing and Immediate Effectiveness of Proposed Rule Change by the Stock Clearing Corporation of Philadelphia Relating to Fees for Philadelphia Stock Exchange Remote Specialists

January 7, 2004.

Pursuant to Section 19(b)(1) of the Securities Exchange Act of 1934 (“Act”),¹ notice is hereby given that on November 21, 2003, the Stock Clearing Corporation of Philadelphia (“SCCP”) filed with the Securities and Exchange Commission (“Commission”) the proposed rule change as described in Items I, II, and III, below, which Items have been prepared primarily by SCCP. The Commission is publishing this notice to solicit comments on the proposed rule change from interested persons.

¹ 15 U.S.C. 78s(b)(1).

I. Self-Regulatory Organization's Statement of the Terms of Substance of the Proposed Rule Change

SCCP proposes to amend its schedule of dues, fees, and charges to provide that the fees, credits and discounts that apply to Philadelphia Stock Exchange (“Phlx”) remote competing specialists will also be applicable to Phlx primary remote specialists.² The amendments to SCCP's fees proposed in this proposed rule change will be implemented by SCCP upon Commission approval of Phlx's proposed rule change to permit primary remote specialists.³

² Phlx has filed a proposed rule change regarding fees to be charged in connection with the proposed expansion of the remote specialist program to include remote primary specialists (File No. SR-Phlx-2003-78).

³ Securities Exchange Act Release No. 48515 (Sept. 22, 2003), 68 FR 56031 (Sept. 29, 2003) [File No. SR-Phlx-2003-10].

II. Self-Regulatory Organization's Statement of the Purpose of, and Statutory Basis for, the Proposed Rule Change

In its filing with the Commission, SCCP included statements concerning the purpose of and basis for the proposed rule change and discussed any comments it received on the proposed rule change. The text of these statements may be examined at the places specified in Item IV below. SCCP has prepared summaries, set forth in sections A, B, and C below, of the most significant aspects of such statements.⁴

⁴ The Commission has modified the text of the summaries prepared by NSCC.

A. Self-Regulatory Organization's Statement of the Purpose of, and Statutory Basis for, the Proposed Rule Change

On August 6, 2002, SCCP amended its fee schedule to: (1) Adopt new fees relating to remote competing specialists on the Phlx and (2) provide that certain existing fees and discounts applicable to Phlx specialists would not apply to remote competing specialists.⁵ Because at that time the Phlx's remote specialist program was to be limited to remote competing (as opposed to primary) specialists, that proposed rule change applied only to Phlx remote competing specialists.⁶

⁵ Securities Exchange Act Release No. 46513 (Sept. 18, 2002), 67 FR 60276 (Sept. 25, 2002) [File No. SR-SCCP-2002-03].

⁶ Phlx Rule 461, PACE Remote Specialist, and Securities Exchange Act Release No. 45184 (Dec. 21, 2001), 67 FR 622 (Jan. 4, 2002) (approving SR-Phlx-2001-98).

Phlx now proposes to change its rules to expand its remote specialist program to include remote primary specialists in addition to remote competing specialists. The purpose of this SCCP proposed rule change is to apply the same fees, credits and discounts applicable to remote competing specialists to remote primary specialists. Accordingly, the text of SCCP's fee schedule is amended by the deletion of the word “competing” in items 2, 3, 4, and 13 and the first time that the word appears in the final sentence of the schedule. All existing references to “remote specialists” on SCCP's fee schedule will now be construed to include both remote primary specialists and remote competing specialists.⁷

⁷ This filing also makes a technical correction by changing the footnote number from “1” to “2” in the caption to Item 4 of the fee schedule.

SCCP believes that the proposed rule change is consistent with Section 17A(b)(3)(D) of the Act ⁸ because it provides for the equitable allocation of reasonable dues, fees, and other charges among its participants, in that the fees apply equally to all SCCP participants with remote specialist operations or which clear for remote specialists.

⁸ 15 U.S.C. 78q-1(b)(3)(D).

B. Self-Regulatory Organization's Statement on Burden on Competition

SCCP does not believe that the proposed rule change will impose any inappropriate burden on competition.

C. Self-Regulatory Organization's Statement on Comments on the Proposed Rule Change Received From Members, Participants, or Others

No written comments were either solicited or received.

III. Date of Effectiveness of the Proposed Rule Change and Timing for Commission Action

The foregoing proposed rule change has become effective pursuant to Section 19(b)(3)(A)(ii) of the Act ⁹ and Rule 19b-4(f)(2)¹⁰ thereunder because it establishes or changes a due, fee, or other charge. At any time within sixty days of the filing of the proposed rule change, the Commission may summarily abrogate such rule change if it appears to the Commission that such action is necessary or appropriate in the public interest, for the protection of investors, or otherwise in furtherance of the purposes of the Act.

⁹ 15 U.S.C. 78s(b)(3)(A)(ii).

¹⁰ 17 CFR 240.19b-4(f)(2).

IV. Solicitation of Comments

Interested persons are invited to submit written data, views, and arguments concerning the foregoing, including whether the proposed rule change is consistent with the Act. Persons making written submissions should file six copies thereof with the Secretary, Securities and Exchange Commission, 450 5th Street NW., Washington, DC 20549-0069. Comments may also be submitted electronically at the following e-mail address: rule-comments@sec.gov. All comment letters should refer to File No. SR-SCCP-2003-06. This file number should be included on the subject line if e-mail is used. To help the Commission process and review your comments more efficiently, comments should be sent in hardcopy or by e-mail but not by both methods. Copies of the submission, all subsequent amendments, all written statements with respect to the rule filing that are filed with the Commission, and all written communications relating to the rule filing between the Commission and any person, other than those that may be withheld from the public in accordance with provisions of 5 U.S.C. 552, will be available for inspection and copying in the Commission's Public Reference Room in Washington, DC. Copies of such filing will also be available for inspection and copying at SCCP's principal office and on SCCP's Web site at http://www.phlx.com/exchange/memos/SCCP/sccp_rules/010604.pdf. All submissions should refer to File No. SR-SCCP-2003-06 and should be submitted by February 4, 2004.

For the Commission by the Division of Market Regulation, pursuant to delegated authority.¹¹
¹¹ 17 CFR 200.30-3(a)(12).
J. Lynn Taylor,
Assistant Secretary.

[FR Doc. 04-804 Filed 1-13-04; 8:45 am]

BILLING CODE 8010-01-P